NUCLEAR REGULATORY COMMISSION

10 CFR Part 51

[Docket No. PRM-51-29; NRC-2012-0215]

Rescinding Spent Fuel Pool Exclusion Regulations

AGENCY: Nuclear Regulatory Commission.

ACTION: Petition for rulemaking; notice of receipt; supplemental information.

SUMMARY: The U.S. Nuclear Regulatory Commission (NRC) is providing supplemental information to a notice of receipt that appeared in the Federal Register on December 19, 2012. This document informed the public of a petition for rulemaking submitted by the Commonwealth of Massachusetts (Commonwealth) requesting that the NRC institute a rulemaking to rescind the regulations excluding consideration of spent fuel pool storage impacts from license renewal environmental reviews. This action is necessary to provide the public with supplemental information on how to access documents referenced in the Commonwealth's petition.

ADDRESSES: Please refer to Docket ID NRC-2012-0215 when contacting the NRC about the availability of information for this petition. You may access information related to this petition, which the NRC possesses and is publicly available, by any of the following methods:

• Federal Rulemaking Web site: Go to http://www.regulations.gov and search for Docket ID NRC-2012-0215. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Cindy Bladey, Chief, Rules, Announcements, and Directives Branch, Division of Administrative Services, Office of Administration, U.S. Nuclear Regulatory Commission, Washington, DC 20555-0001; telephone: 301-492-3667, email: Cindy.Bladey@nrc.gov.

SUPPLEMENTARY INFORMATION: The U.S. Nuclear Regulatory Commission (NRC) is providing supplemental information to a notice of receipt that appeared in the Federal Register (77 FR 75065; December 19, 2012). In particular, the NRC is providing supplemental information regarding public access to documents referenced in the petition for rulemaking filed by the Commonwealth of Massachusetts (ADAMS Accession No. ML12254A005). The Commonwealth states that its petition “is supported by the Declaration and expert report of Dr. Gordon R. Thompson.” These documents are available in ADAMS and in the docket for this action (NRC-2012-0215) on www.regulations.gov. The “Declaration of Dr. Gordon R. Thompson in Support of Massachusetts Contention and Related Petitions and Motions” is available in ADAMS under Accession No. ML111530345. Dr. Thompson's report, titled “New and Significant Information From the Fukushima Daiichi Accident in the Context of Future Operation of the Pilgrim Nuclear Power Plant,” is available in ADAMS under Accession No. ML12094A183.

Dated at Rockville, Maryland, this 20th day of December, 2012.
For the Nuclear Regulatory Commission.
Cindy Bladey,
Chief, Rules, Announcements, and Directives Branch, Division of Administrative Services, Office of Administration.

[FR Doc. 2012-31132 Filed 12-28-12; 8:45 am]

BILLING CODE 7590-01-P